DEPARTMENT OF ENERGY

Federal Energy Regulatory Commission

Notice Announcing Preliminary Permit Drawing

Lock+ Hydro Friends Fund XXXVI | Project No. 13733-000.
FFP Missouri 8, LLC | Project No. 13752-000.
Solia 6 Hydroelectric, LLC | Project No. 13768-000.

The Commission has received three preliminary permit applications deemed filed on May 18, 2010, at 8:30 a.m.,¹ for proposed projects to be located at the Army Corps of Engineers' Montgomery Lock and Dam on the Ohio River, in Beaver County, Pennsylvania. The applications were filed by Lock+ Hydro Friends Fund XXXVI for Project No. 13733, FFP Missouri 8, LLC, for Project No. 13752, and Solia 6 Hydroelectric, LLC, for Project No. 13768.²

¹ Under the Commission's Rules of Practice and Procedure, any document received after regular business hours is considered filed at 8:30 a.m. on the next regular business day. 18 CFR 385.2001(a)(2) (2010).

² Montgomery Hydro, LLC, also filed a permit application to study the same site for Project No. 13792, which is deemed filed on May 19, 2010.

On March 24, 2011, at 10 a.m. (eastern time), the Secretary of the Commission, or her designee, will conduct a random drawing to determine the filing priority of the applicants identified in this notice. The Commission will select among competing permit applications as provided in section 4.37 of its regulations.³ The priority established by this drawing will be used to determine which applicant, among those with identical filing times, will be considered to have the first-filed application.

³ 18 CFR 4.37 (2010).

The drawing is open to the public and will be held in room 2C, the Commission Meeting Room, located at 888 First St., NE., Washington, DC 20426. A subsequent notice will be issued by the Secretary announcing the results of the drawing.

Dated: March 15, 2011.
Nathaniel J. Davis, Sr.,
Deputy Secretary.

[FR Doc. 2011-6776 Filed 3-22-11; 8:45 am]

BILLING CODE 6717-01-P